DEPARTMENT OF COMMERCE

National Telecommunications and Information Administration

Digital Equity RFC Listening Sessions

AGENCY: National Telecommunications and Information Administration, Department of Commerce.

ACTION: Notice of open meetings.

SUMMARY: The National Telecommunications and Information Administration (NTIA) will convene four virtual listening sessions on the Digital Equity Act Request for Comment. The listening sessions are designed to collect stakeholder input to help inform the development and administration of the State Digital Equity Capacity and State Digital Equity Competitive grant programs.

DATES: The listening sessions will be held on April 10, 17, 24, and 29, 2023, from 3:00 p.m. to 4:00 p.m., Eastern Daylight Time.

ADDRESSES: The session will be held virtually, with online slide share and dial-in information to be posted at https://www.internetforall.gov/calendar.

FOR FURTHER INFORMATION CONTACT: Please direct questions regarding this Notice to digitalequity@ntia.gov, indicating “DE RFC Listening Session” in the subject line, or if by mail, addressed to National Telecommunications and Information Administration, U.S. Department of Commerce, 1401 Constitution Avenue NW, Washington, DC 20230; telephone: 202-482-3806. Please direct media inquiries to Virginia Bring, (202) 594-6254, or NTIA's Office of Public Affairs, press@ntia.gov.

SUPPLEMENTARY INFORMATION:

Background and Authority: Recognizing the internet's fundamental role in today's society and its centrality to our nation's continued health and prosperity, the Biden-Harris Administration will work to ensure that every community in America has access to affordable, reliable, high-speed internet service. On November 15, 2021, President Biden signed the Infrastructure Investment and Jobs Act of 2021 ¹ into law, also known (and referred to subsequently herein) as the Bipartisan Infrastructure Law, which includes a historic investment of $65 billion to help close the digital divide and ensure that everyone in America has access to affordable, reliable, high-speed internet service. The National Telecommunications and Information Administration (NTIA), is responsible for distributing more than $48 billion in Bipartisan Infrastructure Law funding through several different programs, including the $2.75 billion Digital Equity Act of 2021 Program.

¹ Public Law 117-58, 135 Stat. 429 (November 15, 2021).

The COVID-19 pandemic highlighted what many have known for a very long time: High-speed internet access is not a luxury, but a basic necessity for all Americans. Since the pandemic, telehealth access and use has expanded and the workplace is changing as more workers are choosing to work from home. Passed on a bipartisan basis in both chambers of Congress, the Bipartisan Infrastructure Law allocated $42.45 billion to create the Broadband, Equity, Access and Deployment Program (BEAD), $1 billion to create the Enabling Middle Mile Broadband Infrastructure Program, $2 billion to help tribal communities expand high-speed internet access and adoption on tribal lands, and $2.75 billion (through the Digital Equity Act of 2021 (Digital Equity Act), also passed as part of the Bipartisan Infrastructure Law) to advance federal goals relating to digital equity ² and digital inclusion.³ These programs administered by NTIA are designed to work in tandem with other high-speed internet programs, including the Affordable Connectivity Program, which provides up to $30 per month toward internet service for qualifying households and up to $75 per month for households on qualifying Tribal lands. With the passage of the Bipartisan Infrastructure Law, Congress took a significant step forward in achieving the Biden-Harris Administration's goal of ensuring that all Americans not only have access to affordable, reliable, high-speed internet service but also the skills and resources needed for full participation in the society and economy of the United States.

² Section 60302(10) of the IIJA defines “digital equity” as “the condition in which individuals and communities have the information technology capacity that is needed for full participation in the society and economy of the United States.”

³ Section 60302(11) of the IIJA Law defines “digital inclusion” as “(A) . . . the activities that are necessary to ensure that all individuals in the United States have access to, and the use of, affordable information and communication technologies, such as—(i) reliable fixed and wireless broadband internet service; (ii) internet-enabled devices that meet the needs of the user; and (iii) applications and online content designed to enable and encourage self-sufficiency, participation, and collaboration; and (B) includes—(i) obtaining access to digital literacy training; (ii) the provision of quality technical support; and (iii) obtaining basic awareness of measures to ensure online privacy and cybersecurity.”

To help inform development and administration of the Digital Equity Act grant programs, NTIA has established multiple avenues for the public to offer input, including through a Request for Comment, published March 2nd, 2023, as well as these four public virtual listening sessions. This Notice is part of NTIA's strategy to engage with partners, stakeholders, and most importantly, individuals with lived experiences who faced challenges of having access to and/or the skills and devices to fully utilize affordable, reliable, high-speed internet, to help meet the President's goal to close the digital divide and transform the lives of all Americans. This is America's opportunity to harness the talents and strengths of all parts of our country and remove systemic barriers and provide equal access to opportunities and benefits, so that everyone has a chance to reach their full potential. But in order to achieve this objective, we need to hear from you. This Notice provides an opportunity to provide direct responses to NTIA's Request for Comment via public listening sessions, and to inform how NTIA designs a program that works to achieve this national and community driven opportunity for change.

Time and Date: The listening sessions will be held on April 10, 17, 24, and 29, 2023, from 3:00 p.m. to 4:00 p.m., Eastern Daylight Time. The exact time of the meeting is subject to change. Please refer to NTIA's website, https://www.internetforall.gov/calendar., for the most current information.

Place: The meeting will be held virtually, with online slide share and dial-in information to be posted at https://www.internetforall.gov/calendar. Please refer to NTIA's website, https://www.internetforall.gov/calendar., for the most current information.

Other Information: The meeting is open to the public and the press on a first-come, first-served basis. The virtual meeting is accessible to people with disabilities. Sign language interpretation and virtual real-time captioning will be available. Individuals requiring other ancillary aids should notify the Department at digitalequity@ntia.gov at least seven (7) business days prior to the meeting. Access details for the meeting are subject to change. Please refer to NTIA's website, https://www.internetforall.gov/calendar., for the most current information.

Josephine Arnold,
Senior Attorney Advisor, National Telecommunications and Information Administration.

[FR Doc. 2023-07133 Filed 4-5-23; 8:45 am]

BILLING CODE 3510-60-P